DEPARTMENT OF LABOR

Employment Standards Administration

Proposed Collection: Comment Request

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirements on respondents can be properly assessed. Currently, the Employment Standards Administration is soliciting comments concerning the proposed extension collection of the following information collections: (1) Waiver of Child Labor Provisions for Agricultural Employment of 10 and 11 Year Old Minors in Hand Harvesting of Short Season Crops—29 CFR Part 575; and (2) Survivor's Form for Benefits (CM-912).

DATES: Written comments must be submitted to the office listed in the ADDRESSES section below on or before May 21, 2001.

ADDRESSES: Ms. Patricia A. Forkel, U.S. Department of Labor, 200 Constitution Ave., NW., Room S-3201, Washington, DC 20210, telephone (202) 693-0339 (this is not a toll-free number), fax (202) 693-1451.

SUPPLEMENTARY INFORMATION:

Waiver of Child Labor Provisions for Agricultural Employment of 10 and 11 Year Old Minors in Hand Harvesting of Short Season Crops—29 CFR Part 575

I. Background

Section 13(c)(4) of the Fair Labor Standards Act (FLSA), 29 U.S.C. 201 et seq., authorizes the Secretary of Labor to grant a waiver of the child labor provisions of the FLSA for the agricultural employment of 10 and 11 year old minors in the hand harvesting of short season crops if specific requirements are met. The Act requires that employers who are granted such waivers keep on file a signed statement of the parent or person standing in the place of the parent of each 10 and 11 year old minor, consenting to their employment, along with a record of the name and address of the school in which the minor is enrolled.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions

The Department of Labor seeks the extension of approval for this information collection in order to determine whether the statutory requirements and conditions for granting a requested exemption have been meet.

Type of Review: Extension.

Agency: Employment Standards Administration.

Title: Waiver of Child Labor Provisions for Agricultural Employment of 10 and 11 Year Old Minors in Hand Harvesting of Short Season Crops—29 CFR Part 575.

OMB Number: 1215-0120.

Affected Public: Farms; Individuals or Households.

Total Respondents: 1.

Frequency: On occasion.

Total Responses: 1.

Average time per Response: 4 hours.

Estimated Total Burden Hours: 4.

Total Burden Cost (capital/startup): $0

Total Burden Cost (operating/maintenance): $0.

Survivor's Form for Benefits (CM-912)

I. Background

Survivors of Black Lung Act beneficiaries are entitled to be considered for benefits under Section 412 (30 USC 922) of the Federal Mine Safety and Health Act of 1977 and 20 CFR 725.212-225. The CM-912 is the form used by applicants to apply for benefits.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions

The Department of Labor seeks the extension of approval of this information collection in order to gather information to determine eligibility for benefits of a survivor of a Black Lung Act beneficiary.

Type of Review: Extension.

Agency: Employment Standards Administration.

Title: Survivor's Form for Benefits.

OMB Number: 1215-0069.

Agency Number: CM-912.

Affected Public: Individuals or households.

Total Respondents: 2,500.

Frequency: One time.

Total Responses: 2,500.

Average Time per Response: 8 minutes.

Estimated Total Burden Hours: 333.

Total Burden Cost (capital/startup): $0.

Total Burden Cost (operating/maintenance): $740.

Comments submitted in response to this notice will be summarized and/or included in the request for Office of Management and Budget approval of the information collection request; they will also become a matter of public record.

Dated: March 16, 2001.
Margaret J. Sherrill,
Chief, Branch of Management Review and Internal Control, Division of Financial Management, Office of Management, Administration and Planning, Employment Standards Administration.

[FR Doc. 01-7147 Filed 3-21-01; 8:45 am]

BILLING CODE 4510-27-M